DEPARTMENT OF COMMERCE

National Oceanic and Atmospheric Administration

[I.D. 091906A]

Mid-Atlantic Fishery Management Council; Public Meetings

AGENCY: National Marine Fisheries Service (NMFS), National Oceanic and Atmospheric Administration (NOAA), Commerce.

ACTION: Notice of public meetings; correction.

SUMMARY: The agenda for the Mid-Atlantic Fishery Council (Council); its Research Set-Aside (RSA) Committee; its Protected Resources Committee; its Law Enforcement Committee; and, its Executive Committee meetings is updated to reflect the addition of a presentation by the National Marine Fisheries Service on the results of a recently completed peer review of the updated 2006 summer flounder stock assessment.

DATES: The meetings will be held on Tuesday, October 10, 2006 through Thursday, October 12, 2006. See SUPPLEMENTARY INFORMATION for a meeting agenda.

ADDRESSES: This meeting will be held at The Hilton Garden Inn, 5353 North Virginia Dare Trail, Kitty Hawk, NC 27949; telephone: (252) 261-1290.

Council address: Mid-Atlantic Fishery Management Council, 300 S. New Street, Dover, DE 19904, telephone: (302) 674-2331.

FOR FURTHER INFORMATION CONTACT: Daniel T. Furlong, Executive Director, Mid-Atlantic Fishery Management Council; telephone: (302) 674-2331, extension 19.

SUPPLEMENTARY INFORMATION: The original notice published in the Federal Register on September 26, 2006 (FR 71 56109). The agenda is updated as follows:

Wednesday, October 11, 2006

3 p.m. until 4 p.m.-The Council will review and adopt the public hearing document for Amendment 14 to the Summer Flounder, Scup, and Black Sea Bass FMP regarding scup rebuilding.

4 p.m. until 5 p.m.-The Council will receive a presentation from the National Marine Fisheries Service, Office of Science and Technology, on the results of a peer review of the updated 2006 summer flounder stock assessment, completed in September 2006.

All other previously-published information remains the same.

Dated: September 28, 2006.
Tracey L. Thompson,
Acting Director, Office of Sustainable Fisheries National Marine Fisheries Service

[FR Doc. E6-16263 Filed 10-02-06; 8:45 am]

BILLING CODE 3510-22-S